DEPARTMENT OF LABOR

Employment and Training Administration

[TA-W-54,899]

Zilog, Inc.; Nampa, ID; Dismissal of Application for Reconsideration

Pursuant to 29 CFR 90.18(C) an application for administrative reconsideration was filed with the Director of the Division of Trade Adjustment Assistance for workers at Zilog, Inc., Nampa, Idaho. The application contained no new substantial information which would bear importantly on the Department's determination. Therefore, dismissal of the application was issued.

TA-W-54,899; Zilog, Inc. Nampa, Idaho (August 17, 2004)

Signed at Washington, DC, this 18th day of August 2004.
Timothy Sullivan,
Director, Division of Trade Adjustment Assistance.

[FR Doc. 04-19410 Filed 8-24-04; 8:45 am]

BILLING CODE 4510-30-P